DEPARTMENT OF ENERGY

Federal Energy Regulatory Commission

Combined Notice of Filings #1

Take notice that the Commission received the following electric rate filings:

Docket Numbers: ER10-2265-016; ER12-21-022; ER10-2261-008; ER11-2062-024; ER11-4307-025; ER12-261-024; ER10-2264-008; ER10-1581-022; ER10-2354-010; ER11-4308-025; ER13-2107-012; ER13-2020-012; ER13-2050-012; ER10-2359-009; ER11-3418-004.

Applicants: NRG Power Marketing LLC, Agua Caliente Solar, LLC, Cabrillo Power II LLC, Energy Plus Holdings LLC, Green Mountain Energy Company, Independence Energy Group LLC, Long Beach Generation LLC, Long Beach Peakers LLC, Midway-Sunset Cogeneration Company, Reliant Energy Northeast LLC, Solar Partners I, LLC, Solar Partners II, LLC, Solar Partners VIII, LLC, Sunrise Power Company, LLC, XOOM Energy, LLC.

Description: Updated Market Power Analysis of the NRG Southwest MBR Sellers.

Filed Date: 6/28/19.

Accession Number: 20190628-5363.

Comments Due: 5 p.m. ET 8/27/19.

Docket Numbers: ER10-2290-007.

Applicants: Avista Corporation.

Description: Triennial Market Power Update for the Northwest Region of Avista Corporation.

Filed Date: 7/1/19.

Accession Number: 20190701-5387.

Comments Due: 5 p.m. ET 8/30/19.

Docket Numbers: ER10-2474-019; ER10-2475-019; ER10-3246-013; ER12-21-021; ER13-1266-022; ER15-2211-019.

Applicants: Nevada Power Company, Sierra Pacific Power Company, PacifiCorp, CalEnergy, LLC, MidAmerican Energy Company.

Description: Updated Market Power Analysis for the Northwest Region of the BHE Northwest Entities.

Filed Date: 6/28/19.

Accession Number: 20190628-5333.

Comments Due: 5 p.m. ET 8/27/19.

Docket Numbers: ER10-2575-009.

Applicants: Watson Cogeneration Company.

Description: Updated Market Power Analysis of Watson Cogeneration Company.

Filed Date: 6/28/19.

Accession Number: 20190628-5353.

Comments Due: 5 p.m. ET 8/27/19.

Docket Numbers: ER10-2575-010.

Applicants: Watson Cogeneration Company.

Description: Notification of Change in Status of Watson Cogeneration Company.

Filed Date: 6/28/19.

Accession Number: 20190628-5354.

Comments Due: 5 p.m. ET 7/19/19.

Docket Numbers: ER10-2862-007; ER11-4625-007.

Applicants: Harbor Cogeneration Company, LLC.

Description: Triennial Market Power Analysis and Notice of Change of Status of Harbor Cogeneration Company, LLC, et al.

Filed Date: 6/28/19.

Accession Number: 20190628-5350.

Comments Due: 5 p.m. ET 8/27/19.

Docket Numbers: ER10-3050-004; ER10-3053-004.

Applicants: Cabazon Wind Partners, LLC, Whitewater Hill Wind Partners, LLC.

Description: Updated Market Power Analysis for the Southwest Region of Cabazon Wind Partners, LLC, et. al.

Filed Date: 6/28/19.

Accession Number: 20190628-5344.

Comments Due: 5 p.m. ET 8/27/19.

Docket Numbers: ER11-1858-008.

Applicants: NorthWestern Corporation.

Description: Triennial Market Power Analysis for the Northwest Region of NorthWestern Corporation.

Filed Date: 6/28/19.

Accession Number: 20190628-5341.

Comments Due: 5 p.m. ET 8/27/19.

Docket Numbers: ER13-1865-003.

Applicants: Tesoro Refining & Marketing Company LLC.

Description: Updated Market Power Analysis of Tesoro Refining & Marketing Company LLC.

Filed Date: 6/28/19.

Accession Number: 20190628-5348.

Comments Due: 5 p.m. ET 8/27/19.

Docket Numbers: ER13-1865-004.

Applicants: Tesoro Refining & Marketing Company LLC.

Description: Notification of Change in Status of Tesoro Refining & Marketing Company LLC.

Filed Date: 6/28/19.

Accession Number: 20190628-5349.

Comments Due: 5 p.m. ET 7/19/19.

Docket Numbers: ER16-1341-003.

Applicants: Southwest Power Pool, Inc.

Description: Southwest Power Pool, Inc. submits tariff filing per 35.19a(b): Refund Report_Historical Amounts Billed under Attachment Z2 to be effective N/A.

Filed Date: 6/28/19.

Accession Number: 20190628-5345.

Comments Due: 5 p.m. ET 7/19/19.

Docket Numbers: ER19-1073-001; ER11-3942-019; ER13-1139-018; ER13-1346-010; ER14-2630-011; ER19-1074-001; ER19-1075-001; ER19-1076-001; ER19-529-001.

Applicants: Alta Wind VIII, LLC, Brookfield Energy Marketing Inc., Brookfield Energy Marketing LP, Brookfield Energy Marketing US LLC, Brookfield Renewable Trading and Marketing LP, Mesa Wind Power Corporation, Windstar Energy LLC, Imperial Valley Solar 1, LLC, Regulus Solar, LLC.

Description: Updated Market Power Analysis for the Southwest Region of the Brookfield Companies and the TerraForm Companies.

Filed Date: 6/28/19.

Accession Number: 20190628-5339.

Comments Due: 5 p.m. ET 8/27/19.

Docket Numbers: ER19-1575-001; ER10-1992-020; ER10-3251-013; ER13-1586-014; ER14-2382-013; ER14-2871-013; ER15-110-012; ER15-463-012; ER15-621-012; ER15-622-012; ER16-1129-006; ER16-1130-006; ER16-1131-006; ER16-1132-006; ER16-182-008; ER16-72-008; ER16-902-004; ER17-1574-003; ER17-1785-003; ER17-47-005; ER17-48-005; ER18-2013-002; ER18-2240-001; ER18-2241-001; ER18-47-004; ER19-1658-001; ER19-1660-001; ER19-1662-001; ER19-1663-001; ER19-1664-001; ER19-1665-001; ER19-1666-001; ER19-1667-001; ER19-426-001; ER19-427-001.

Applicants: Alta Oak Realty, LLC, Dutch Wind, LLC, Cameron Ridge, LLC, Cameron Ridge II, LLC, Coachella Wind, LLC, DifWind Farms Limited I, DifWind Farms Limited II, DifWind Farms Limited V, DifWind Farms LTD VI, EUI Affiliate LLC, Garnet Wind, LLC, Luz Solar Partners IX, Ltd., Luz Solar Partners VIII, Ltd., Mojave 3/4/5 LLC, MOJAVE 16/17/18 LLC, Oak Creek Wind Power, LLC, ON Wind Energy LLC, Pacific Crest Power, LLC, PHWD Affiliate, LLC, Refresh Wind, LLC, Refresh Wind 2, LLC, Ridgetop Energy, LLC, San Gorgonio Westwinds II—Windustries, LLC, San Gorgonio Westwinds II, LLC, Terra-Gen 251 Wind, LLC, Terra-Gen Dixie Valley, LLC, Terra-Gen Energy Services, LLC, Terra-Gen Mojave Windfarms, LLC, Terra-Gen VG Wind, LLC, TGP Energy Management, LLC, Victory Garden Phase IV, LLC, Voyager Wind I, LLC, Voyager Wind II, LLC, VPI Enterprises, LLC, Yavi Energy, LLC.

Description: Updated Market Power Analysis for the Southwest Region of Alta Oak Realty, LLC, et. al.

Filed Date: 6/28/19.

Accession Number: 20190628-5338.

Comments Due: 5 p.m. ET 8/27/19.

Docket Numbers: ER19-2326-000.

Applicants: NSTAR Electric Company.

Description: Initial rate filing: SEMASS Partnership—Design, Engineering and Construction Agreement to be effective 7/1/2019.

Filed Date: 7/1/19.

Accession Number: 20190701-5330.

Comments Due: 5 p.m. ET 7/22/19.

Docket Numbers: ER19-2327-000.

Applicants: ISO New England Inc., New England Power Pool Participants Committee.

Description: § 205(d) Rate Filing: Notice of Eff Date—Monthly “Balance of Planning Period” and Chng to FTR Rights to be effective 9/17/2019.

Filed Date: 7/1/19.

Accession Number: 20190701-5341.

Comments Due: 5 p.m. ET 7/22/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 2, 2019.
Nathaniel J. Davis, Sr.,
Deputy Secretary.

[FR Doc. 2019-14642 Filed 7-9-19; 8:45 am]

BILLING CODE 6717-01-P